NATIONAL AERONAUTICS AND SPACE ADMINISTRATION

[Notice 00-114]

NASA Advisory Council (NAC), Space Science Advisory Committee (SScAC), Astronomical Search for Origins and Planetary Systems (ORIGINS); Subcommittee Meeting

AGENCY: National Aeronautics and Space Administration.

ACTION: Notice of meeting.

SUMMARY: In accordance with the Federal Advisory Committee Act, Pub. L. 92-463, as amended, the National Aeronautics and Space Administration announces a forthcoming meeting of the NASA Advisory Council, Space Science Advisory Committee ORIGINS Subcommittee.

DATES: Monday, October 16, 2000, 8:30 a.m. to 5 p.m.; Tuesday, October 17, 2000, 8:30 a.m. to 5 p.m.

ADDRESSES: National Aeronautics and Space Administration, 300 E Street, SW., Conference Room 7H46, Washington, DC, 20546.

FOR FURTHER INFORMATION CONTACT: Dr. Anne L. Kinney, Code S, National Aeronautics and Space Administration, Washington, DC 20546, 202/358-2150.

SUPPLEMENTARY INFORMATION: The meeting will be open to the public up to the capacity of the room. The agenda for the meeting includes the following topics:

• Progress with Space Interferometry Mission

• Planet Finder Program

• Nexus

• Origins Technology

• Large Binocular Telescope

It is imperative that the meeting be held on these dates to accommodate the scheduling priorities of the key participants. Visitors will be requested to sign a visitor's register.

Dated: September 18, 2000.
Beth M. McCormick,
Advisory Committee Management Officer, National Aeronautics and Space Administration.

[FR Doc. 00-24400 Filed 9-21-00; 8:45 am]

BILLING CODE 7510-01-P